DEPARTMENT OF EDUCATION

Charter Schools Program (CSP); Office of Innovation and Improvement; Overview Information; Charter Schools Program (CSP): State Educational Agencies Notice Inviting Applications for New Awards for Fiscal Year (FY) 2011

Catalog of Federal Domestic Assistance (CFDA) Number: 84.282A.

DATES: Applications Available: January 25, 2011.

Deadline for Transmittal of Applications: March 18, 2011.

Deadline for Intergovernmental Review: May 17, 2011.

Full Text of Announcement

I. Funding Opportunity Description

Purpose of Program: The purpose of the CSP is to increase national understanding of the charter school model (1) by expanding the number of high-quality charter schools available to students across the Nation by providing financial assistance for the planning, program design, and initial implementation of charter schools, and (2) by evaluating the effects of charter schools, including their effects on students, student academic achievement, staff, and parents. The Secretary awards grants to State educational agencies (SEAs) on a competitive basis to enable them to conduct charter school programs in their States. SEAs in turn use their CSP funds to make subgrants to eligible applicants in their State. These subgrants are used for planning, program design, and initial implementation of a charter school, and to support the dissemination of information about charter schools, including successful practices demonstrated by charter schools.

Priorities and Definitions: This competition includes seven competitive preference priorities, one invitational priority, and definitions. In accordance with 34 CFR 75.105(b)(1) and 34 CFR 75.105(b)(2)(iv), competitive preference priorities 1 through 4 are from section 5202(e) of the Elementary and Secondary Education Act of 1965, as amended (ESEA), 20 U.S.C. 7221a(e). Competitive preference priorities 5 through 7 and the definitions for graduation rate, high-poverty school, open educational resources, and rural local educational agency are from the notice of final supplemental priorities and definitions for discretionary grant programs, published in the Federal Register on December 15, 2010 (75 FR 78486). The definitions for developer and eligible applicant are from 20 U.S.C. 7221i.

Competitive Preference Priorities: For FY 2011 and any subsequent year in which we make awards based on the list of unfunded applicants from this competition, these priorities are competitive preference priorities. Under 34 CFR 75.105(c)(2)(i) we award up to an additional 50 points to an application, depending on how well the application meets one or more of these priorities.

Note: In order to receive preference under priorities 1 through 7, an applicant must (a) Identify the priority or priorities that it believes it meets; (b) describe, in detail, how it meets the priority or priorities; and (c) provide documentation in support of its claims, including citations and examples from its State's charter school law, regulations, or policies. In order to receive points for priority 1 or to receive points for priorities 2 through 4, an application must meet priority 1 and must meet one or more of priorities 2 through 4.

An SEA that meets priority 1 but does not meet one or more of priorities 2 through 4 will not receive any points for priorities 1 through 4.

An SEA that does not meet priority 1 but meets one or more of priorities 2 through 4 will not receive any points for priorities 2 through 4.

The Notes following the competitive preference priorities are guidance to assist applicants in responding to the priorities and are not required by statute or regulation. However, we encourage applicants to consider those Notes in responding to the priorities.

These priorities are:

Competitive Preference Priority 1—Periodic Review and Evaluation (up to 10 points). The State provides for periodic review and evaluation by the authorized public chartering agency of each charter school at least once every five years, unless required more frequently by State law, to determine whether the charter school is meeting the terms of the school's charter and is meeting or exceeding the student academic achievement requirements and goals for charter schools as set forth under State law or the school's charter.

Note: The Secretary invites the applicant to provide information regarding whether the periodic review that takes place at least once every five years includes a public vote on whether to terminate, extend, or renew a school's charter and on whether a failure to affirmatively renew or extend a school's charter during the periodic review that takes place at least once every five years would result in the charter school being closed.

Competitive Preference Priority 2—Number of High-Quality Charter Schools (up to 8 points). The State has demonstrated progress in increasing the number of high-quality charter schools that are held accountable in the terms of the schools' charters for meeting clear and measurable objectives for the educational progress of the students attending the schools, in the period prior to the period for which an SEA applies for a grant under this competition.

Note: The Secretary invites the applicant to provide the following information: (1) Its definition of “high-quality charter school”; (2) the number of “high-quality charter schools” in the State and a description of how the rate has changed over the past five years; and (3) the percentage of “high-quality charter schools” in the State and a description of how the percentage has changed over the past five years.

Competitive Preference Priority 3—One Authorized Public Chartering Agency Other than a Local Educational Agency (LEA), or an Appeals Process (5 points). The State—

(a) Provides for one authorized public chartering agency that is not an LEA, such as a State chartering board, for each individual or entity seeking to operate a charter school pursuant to State law; or

(b) In the case of a State in which LEAs are the only authorized public chartering agencies, allows for an appeals process for the denial of an application for a charter school.

Competitive Preference Priority 4—High Degree of Autonomy (up to 5 points). The State ensures that each charter school has a high degree of autonomy over the charter school's budget and expenditures.

Competitive Preference Priority 5—Improving Achievement and High School Graduation Rates (up to 12 points). Projects that are designed to address one or more of the following priority areas:

(a) Accelerating learning and helping to improve high school graduation rates (as defined in this notice) and college enrollment rates for students in rural local educational agencies (as defined in this notice) (up to 3 points).

(b) Accelerating learning and helping to improve high school graduation rates (as defined in this notice) and college enrollment rates for students with disabilities (up to 3 points).

(c) Accelerating learning and helping to improve high school graduation rates (as defined in this notice) and college enrollment rates for English learners (up to 3 points).

(d) Accelerating learning and helping to improve high school graduation rates and college enrollment rates in high-poverty schools (as defined in this notice) (up to 3 points).

Note: For each population of students for which the applicant is seeking competitive priority points, the Secretary invites the applicant to discuss the steps it would take to meet the priority. For example, the applicant could describe any guidance or support it would provide to charter school developers to assist such developers in recruiting and providing high-quality services to students who are members of the particular student populations(s); how it would monitor charter schools in the State to ensure that they are taking effective and active steps to recruit and enroll students who are members of the particular student population(s); how it would monitor charter schools in the State to ensure that students who are members of the particular student population(s) are being served by such schools; or how it would design its subgrant competition, which may include the use of preferences, to ensure that students who are members of the particular student population(s) are being served at rates equal to or greater than such students are being served in other schools in the area.

Competitive Preference Priority 6—Promoting Diversity (up to 5 points). Projects that are designed to promote student diversity, including racial and ethnic diversity, or avoid racial isolation.

Note: The Secretary invites the applicant to discuss how it would design its subgrant competition to meet this priority.

Competitive Preference Priority 7— Improving Productivity (up to 5 points). Projects that are designed to significantly increase efficiency in the use of time, staff, money, or other resources while improving student learning or other educational outcomes (i.e., outcome per unit of resource). Such projects may include innovative and sustainable uses of technology, modification of school schedules and teacher compensation systems, use of open educational resources (as defined in this notice), or other strategies.

Invitational Priority: Under this competition we are particularly interested in applications that address the following priority. For FY 2011 and any subsequent year in which we make awards based on the list of unfunded applicants from this competition, this priority is an invitational priority. Under 34 CFR 75.105(c)(1), we do not give an application that meets this invitational priority a competitive or absolute preference over other applications. This priority is:

Support for Turnaround Schools.

The Secretary is particularly interested in projects that are designed to turn around persistently low-performing schools by providing support for one or both of the following types of activities: (1) the creation of a charter school in coordination with an LEA in the vicinity of one or more public schools closed as a consequence of the LEA implementing a restructuring plan under section 1116(b)(8) of the ESEA; or (2) the creation of a new charter school under the restart model of intervention as described in the Final Requirements for School Improvement Grants as Amended in January 2010 at (http://www2.ed.gov/programs/sif/faq.html). Under the restart model of intervention, an LEA converts a school into a charter school or closes and reopens a school under a charter school operator, a charter management organization, or an education management organization that has been selected through a rigorous review process.

Note: For purposes of this invitational priority—

Charter management organization is a non-profit organization that operates, manages, or oversees multiple charter schools by centralizing or sharing certain functions and resources among schools.

Educational management organization is an organization that provides whole-school operation services.

Definitions

The following definitions are taken from the notice of final supplemental priorities and definitions for discretionary grant programs, published in the Federal Register on December 15, 2010 (75 FR 78486) and the CSP authorizing statute (20 U.S.C. 7221).

Developer means an individual or group of individuals (including a public or private non-profit organization), which may include teachers, administrators and other school staff, parents, or other members of the local community in which a charter school project will be carried out. (20 U.S.C. 7221i(2)).

Eligible applicant means a developer that has (a) applied to an authorized public chartering authority to operate a charter school; and (b) provided adequate and timely notice to that authority under section 5203(d)(3) of the ESEA. (20 U.S.C. 7221i(3)).

Graduation rate means a four-year adjusted cohort graduation rate consistent with 34 CFR 200.19(b)(1) and may also include an extended-year adjusted cohort graduation rate consistent with 34 CFR 200.19(b)(1)(v) if the State in which the proposed project is implemented has been approved by the Secretary to use such a rate under Title I of the ESEA. (75 FR 78509).

High-poverty school means a school in which at least 50 percent of students are eligible for free or reduced-price lunches under the Richard B. Russell National School Lunch Act or in which at least 50 percent of students are from low-income families as determined using one of the criteria specified under section 1113(a)(5) of the ESEA. For middle and high schools, eligibility may be calculated on the basis of comparable data from feeder schools. Eligibility as a high-poverty school under this definition is determined on the basis of the most currently available data. (75 FR 78509).

Open educational resources (OER) means teaching, learning, and research resources that reside in the public domain or have been released under an intellectual property license that permits their free use or repurposing by others. (75 FR 78509).

Rural local educational agency means an LEA that is eligible under the Small Rural School Achievement (SRSA) program or the Rural and Low-Income School (RLIS) program authorized under Title VI, Part B of the ESEA. Eligible applicants may determine whether a particular LEA is eligible for these programs by referring to information on the Department's Web site at http://www2.ed.gov/nclb/freedom/local/reap.html. (75 FR 78510).

Program Authority: 20 U.S.C. 7221-7221i; Consolidated Appropriations Act, 2010, Division D, Title III, Public Law 111-117.

Note: The Department anticipates that an authority similar to that in the Consolidated Appropriations Act, 2010, Division D, Title III, Public Law 111-117 will be included in the fiscal year 2011 appropriations act.

Applicable Regulations: (a) The Education Department General Administrative Regulations (EDGAR) in 34 CFR parts 74, 75, 76, 77, 79, 80, 81, 82, 84, 85, 97, 98, and 99; (b) The notice of final supplemental priorities and definitions for discretionary grant programs published in the Federal Register on December 15, 2010 (75 FR 78486).

Note: The regulations in 34 CFR part 79 apply to all applicants except federally recognized Indian tribes.

II. Award Information

Type of Award: Discretionary grants.

Estimated Available Funds: We estimate that between $45,000,000 and $62,000,000 will be available for new awards for this program for FY 2011. The actual level of funding, if any, depends on final congressional action. However, we are inviting applications to allow enough time to complete the grant process, if Congress appropriates funds for this program.

Contingent upon the availability of funds and the quality of applications we may make additional awards later in FY 2011 and in FY 2012 from the list of unfunded applicants from this competition.

Estimated Range of Awards: $1,000,000-$15,000,000 per year.

Estimated Average Size of Awards: $5,000,000 per year.

Estimated Number of Awards: 7-12.

Note: The Department is not bound by any estimates in this notice. The estimated range, size, and number of awards are based on a single 12-month budget period. However, the Department may choose to fund more than 12 months of a project using the FY 2011 funds.

Project Period: Up to 36 months.

Note: Planning and implementation subgrants awarded by an SEA to non-SEA eligible applicants will be awarded for a period of up to three years, no more than 18 months of which may be used for planning and program design and no more than two years of which may be used for the initial implementation of a charter school. Dissemination subgrants are awarded for a period of up to two years.

III. Eligibility Information

1. Eligible Applicants: SEAs in States with a State statute specifically authorizing the establishment of charter schools.

Note: Non-SEA eligible applicants in States in which the SEA elects not to participate in or does not have an application approved under the CSP may apply for funding directly from the Department. The Department plans to hold a separate competition for non-SEA eligible applicants under CFDA numbers 84.282B and 84.282C.

2. Cost Sharing or Matching: This competition does not require cost sharing or matching.

IV. Application and Submission Information

1. Address to Request Application Package: Leslie Hankerson, U.S. Department of Education, 400 Maryland Avenue, SW., room 4W249, Washington, DC 20202-5970. Telephone: (202) 205-8524 or by e-mail: Leslie.Hankerson@ed.gov. If you use a telecommunications device for the deaf (TDD), call the Federal Relay Service (FRS), toll free, at 1-800-877-8339.

Individuals with disabilities can obtain a copy of the application package in an accessible format (e.g., braille, large print, audiotape, or computer diskette) by contacting the program contact person listed in this section.

2. Content and Form of Application Submission: Requirements concerning the content of an application, together with the forms you must submit, are in the application package for this competition.

Page Limit: The application narrative (Part III of the application) is where you, the applicant, address the selection criteria that reviewers use to evaluate your application. The Secretary strongly encourages applicants to limit Part III to the equivalent of no more than 60 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

The recommended page limit does not apply to Part I, the cover sheet; Part II, the budget section, including the narrative budget justification; Part IV, the assurances and certifications; or the one-page abstract, the resumes, the bibliography, or the letters of support. However, you must include all of the application narrative in Part III.

3. Submission Dates and Times:

Applications Available: January 25, 2011.

Deadline for Transmittal of Applications: March 18, 2011.

Applications for grants under this competition must be submitted electronically using the Grants.gov Apply site (Grants.gov). For information (including dates and times) about how to submit your application electronically, or in paper format by mail or hand delivery if you qualify for an exception to the electronic submission requirement, please refer to section IV. 7. Other Submission Requirements of this notice.

We do not consider an application that does not comply with the deadline requirements.

Individuals with disabilities who need an accommodation or auxiliary aid in connection with the application process should contact the person listed under FOR FURTHER INFORMATION CONTACT in section VII in this notice. If the Department provides an accommodation or auxiliary aid to an individual with a disability in connection with the application process, the individual's application remains subject to all other requirements and limitations in this notice.

Deadline for Intergovernmental Review: May 17, 2011.

4. Intergovernmental Review: This competition is subject to Executive Order 12372 and the regulations in 34 CFR part 79. Information about Intergovernmental Review of Federal Programs under Executive Order 12372 is in the application package for this competition.

5. Funding Restrictions: The following funding restrictions apply to this competition:

Use of Funds for Post-Award Planning and Design of the Educational Program and Initial Implementation of the Charter School. A non-SEA eligible applicant receiving a subgrant under this program may use the subgrant funds only for—

(a) Post-award planning and design of the educational program, which may include (i) refinement of the desired educational results and of the methods for measuring progress toward achieving those results; and (ii) professional development of teachers and other staff who will work in the charter school; and

(b) Initial implementation of the charter school, which may include (i) informing the community about the school; (ii) acquiring necessary equipment and educational materials and supplies; (iii) acquiring or developing curriculum materials; and (iv) other initial operational costs that cannot be met from State or local sources. (20 U.S.C. 7221c(f)(3))

Use of Funds for Dissemination Activities. An SEA may reserve not more than 10 percent of its grant funds to support dissemination activities (20 U.S.C. 7221c(f)(1)). A charter school may use those funds to assist other schools in adapting the charter school's program (or certain aspects of the charter school's program) or to disseminate information about the charter school through such activities as—

(a) Assisting other individuals with the planning and start-up of one or more new public schools, including charter schools, that are independent of the assisting charter school and the assisting charter school's developers and that agree to be held to at least as high a level of accountability as the assisting charter school;

(b) Developing partnerships with other public schools, including charter schools, designed to improve student academic achievement in each of the schools participating in the partnership;

(c) Developing curriculum materials, assessments, and other materials that promote increased student achievement and are based on successful practices within the assisting charter school; and

(d) Conducting evaluations and developing materials that document the successful practices of the assisting charter school and that are designed to improve student achievement (20 U.S.C. 7221c(f)(6)(B)(i) through (iv)).

Award Basis. In determining whether to approve a grant award and the amount of such award, the Department will consider, among other things, the amount of any unobligated carryover funds the applicant has under an existing CSP grant and the applicant's performance and use of funds under a previous or existing award under any Department program (34 CFR 75.233(b) and 75.217(d)(3)(ii)). In assessing applicant's performance and use of funds under a previous or existing award the Secretary will consider, among other things, the outcomes the applicant has achieved and the results of any Departmental grant monitoring, as well as an applicant's progress in remedying any deficiencies identified in such monitoring.

We reference additional regulations outlining funding restrictions in the Applicable Regulations section of this notice.

6. Data Universal Numbering System Number, Taxpayer Identification Number, and Central Contractor Registry: To do business with the Department of Education, you must—

a. Have a Data Universal Numbering System (DUNS) number and a Taxpayer Identification Number (TIN);

b. Register both your DUNS number and TIN with the Central Contractor Registry (CCR), the Government's primary registrant database;

c. Provide your DUNS number and TIN on your application; and

d. Maintain an active CCR registration with current information while your application is under review by the Department and, if you are awarded a grant, during the project period.

You can obtain a DUNS number from Dun and Bradstreet. A DUNS number can be created within one business day.

If you are a corporate entity, agency, institution, or organization, you can obtain a TIN from the Internal Revenue Service. If you are an individual, you can obtain a TIN from the Internal Revenue Service or the Social Security Administration. If you need a new TIN, please allow 2-5 weeks for your TIN to become active.

The CCR registration process may take five or more business days to complete. If you are currently registered with the CCR, you may not need to make any changes. However, please make certain that the TIN associated with your DUNS number is correct. Also note that you will need to update your CCR registration on an annual basis. This may take three or more business days to complete.

In addition, if you are submitting your application via Grants.gov, you must (1) be designated by your organization as an Authorized Organization Representative (AOR); and (2) register yourself with Grants.gov as an AOR. Details on these steps are outlined in the Grants.gov 3-Step Registration Guide (see http://www.grants.gov/section910/Grants.govRegistrationBrochure.pdf).

7. Other Submission Requirements: Applications for grants under this competition must be submitted electronically unless you qualify for an exception to this requirement in accordance with the instructions in this section.

a. Electronic Submission of Applications.

Applications for grants under the CSP, CFDA number 84.282A, must be submitted electronically using the Governmentwide Grants.gov Apply site at www.Grants.gov. Through this site, you will be able to download a copy of the application package, complete it offline, and then upload and submit your application. You may not e-mail an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the CSP at http://www.Grants.gov. You must search for the downloadable application package for this competition by the CFDA number. Do not include the CFDA number's alpha suffix in your search (e.g., search for 84.326, not 84.326A).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at http://www.G5.gov.

• You will not receive additional point value because you submit your application in electronic format, nor will we penalize you if you qualify for an exception to the electronic submission requirement, as described elsewhere in this section, and submit your application in paper format.

• You must submit all documents electronically, including all information you typically provide on the following forms: the Application for Federal Assistance (SF 424), the Department of Education Supplemental Information for SF 424, Budget Information—Non-Construction Programs (ED 524), and all necessary assurances and certifications.

• You must attach any narrative sections of your application as files in a .PDF (Portable Document) format only. If you upload a file type other than a .PDF or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by e-mail. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system; and

• No later than two weeks before the application deadline date (14 calendar days or, if the fourteenth calendar day before the application deadline date falls on a Federal holiday, the next business day following the Federal holiday), you mail or fax a written statement to the Department, explaining which of the two grounds for an exception prevent you from using the Internet to submit your application.

If you mail your written statement to the Department, it must be postmarked no later than two weeks before the application deadline date. If you fax your written statement to the Department, we must receive the faxed statement no later than two weeks before the application deadline date.

Address and mail or fax your statement to: Leslie Hankerson, U.S. Department of Education, 400 Maryland Avenue, SW., room 4W249, Washington, DC 20202-5970.

FAX: (202) 205-8524.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the following address: U.S. Department of Education, Application Control Center, Attention: 84.282A, LBJ Basement Level 1, 400 Maryland Avenue, SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application by hand, on or before the application deadline date, to the Department at the following address:

U.S. Department of Education, Application Control Center, Attention: 84.282A, 550 12th Street, SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Application Requirements: Applicants applying for CSP grant funds must address the following application requirements, which are based on 20 U.S.C. 7221b(b) and 7221c(f), and the selection criteria described in this notice. An applicant may choose to respond to the application requirements in the context of its responses to the selection criteria.

(i) Describe the objectives of the SEA's charter school grant program and how these objectives will be fulfilled, including steps taken by the SEA to inform teachers, parents, and communities of the SEA's charter school grant program;

(ii) Describe how the SEA will inform each charter school in the State about Federal funds the charter school is eligible to receive and Federal programs in which the charter school may participate;

(iii) Describe how the SEA will ensure that each charter school in the State receives the school's commensurate share of Federal education funds that are allocated by formula each year, including during the first year of operation of the school and a year in which the school's enrollment expands significantly;

(iv) Describe how the SEA will disseminate best or promising practices of charter schools to each LEA in the State;

(v) If an SEA elects to reserve part of its grant funds (no more than 10 percent) for the establishment of a revolving loan fund, describe how the revolving loan fund would operate;

(vi) If an SEA desires the Secretary to consider waivers under the authority of the CSP, include a request and justification for any waiver of statutory or regulatory provisions that the SEA believes is necessary for the successful operation of charter schools in the State; and

(vii) Describe how charter schools that are considered to be LEAs under State law and LEAs in which charter schools are located will comply with sections 613(a)(5) and 613(e)(1)(B) of the Individuals with Disabilities Education Act.

2. Selection Criteria: The selection criteria for this competition are from 20 U.S.C. 7221c and 34 CFR 75.210 of EDGAR and the Consolidated Appropriations Act, 2010, Division D, Title III, Public Law 111-117. The Department anticipates that selection criteria similar to that in the Consolidated Appropriations Act, 2010, Division D, Title III, Public Law 111-117 will be included in the fiscal year 2011 appropriations act. The selection criteria are as follows:

SEAs that propose to use a portion of their grant funds for dissemination activities must address each selection criterion (i) through (vii) individually and title each accordingly. SEAs that do not propose to use a portion of their grant funds for dissemination activities must address selection criteria (i) through (v) and (vii) only. SEAs that do not address criterion (vi) because they are not proposing to use a portion of their grant funds for dissemination activities will not be penalized. The maximum possible score (based on the selection criteria and not including the competitive preference priorities) is 100 points for SEAs that do not propose to use grant funds to support dissemination activities and 110 points for SEAs that propose to use grant funds to support dissemination activities. The maximum possible score for each criterion is indicated in parentheses following the criterion. The Notes following the selection criteria are guidance to help applicants in preparing their applications and are not required by statute or regulation. However, we encourage applicants to consider those Notes in responding to the selection criteria.

(i) The contribution the charter schools grant program will make in assisting educationally disadvantaged and other students in meeting State academic content standards and State student academic achievement standards (20 points).

Note: The Secretary encourages the applicant to provide a description of the objectives for the SEA's charter school grant program and to explain how these objectives will be met, including steps that will be taken by the SEA to inform teachers, parents, and communities of the SEA's charter school grant program and how the SEA will disseminate best or promising practices of charter schools to each LEA in the State.

(ii) The degree of flexibility afforded by the SEA to charter schools under the State's charter school law (20 points).

Note: The Secretary encourages the applicant to describe how the State's charter school law establishes an administrative relationship between charter schools and the authorized public chartering agency and exempts charter schools from significant State or local rules that inhibit the flexible operation and management of public schools.

The Secretary also encourages the applicant to describe the degree of autonomy charter schools in the State exercise over such matters as the charter school's budgets, expenditures, daily operation, schedules, curricula, and personnel in accordance with the State's charter school law.

(iii) The number of high-quality charter schools to be created in the State (20 points).

Note: The Secretary considers the SEA's reasonable estimate of the number of new high-quality charter schools that will be authorized and opened in the State during the project period.

The Secretary encourages the applicant to describe, in detail, its charter school subgrant application and peer review processes, how the peer review process will assess quality, and how the SEA will ensure that only high-quality charter school applicants (as defined by the applicant) are selected for funding. States that have received grants under this program previously are invited to provide data on the percentages of eligible applicants that were awarded subgrants and how this percentage related to the overall quality of applicants funded.

(iv) Quality of the management plan. In determining the quality of the management plan for the proposed project, the Secretary considers (a) the adequacy of the management plan to achieve the objectives of the proposed project on time and within budget, including clearly defined responsibilities, timelines, and milestones for accomplishing project tasks; and (b) how the SEA will inform each charter school in the State about Federal funds the charter school is eligible to receive and ensure that each charter school in the State receives the school's commensurate share of Federal education funds that are allocated by formula each year, including during the first year of operation of the school and during a year in which the school's enrollment expands significantly (20 U.S.C. 7221b(b)(2)(A) and (B) and 7221e(a)) (10 points).

Note: The Secretary encourages the applicant to describe any compliance issues or findings related to the CSP that have been identified in an audit or other monitoring review, as well as the steps taken to address such compliance issues or findings.

(v) The SEA's plan to monitor and hold accountable authorized public chartering agencies through such activities as providing technical assistance or establishing a professional development program, which may include providing authorized public chartering agency staff with training and assistance on planning and systems development, so as to improve the capacity of those agencies to authorize, monitor, and hold accountable charter schools (20 points). Consolidated Appropriations Act, 2010, Division D, Title III, Public Law 111-117.

(vi) In the case of SEAs that propose to use grant funds to support dissemination activities under section 5204(f)(6)(B) of the ESEA, the quality of the dissemination activities (5 points) and the likelihood that those activities will improve student academic achievement (5 points).

Note: The Secretary encourages the applicant to describe the steps to be taken by the SEA to award these funds to eligible applicants, including a description of the peer review process the SEA will use to review applications for dissemination, the timelines for awarding such funds, and how the SEA will assess the quality of the applications.

Applicants that have previously awarded dissemination subgrants under this program are encouraged to describe the outcomes of such subgrants and to identify any improvements to the applicant's processes for awarding and administering dissemination subgrants.

(vii) Quality of the project evaluation. In determining the quality of the evaluation, the Secretary considers the extent to which the methods of evaluation include the use of objective performance measures that are clearly related to the intended outcomes of the project and will produce quantitative and qualitative data (10 points).

Note: The Secretary encourages the applicant to include a strong evaluation plan in the application narrative and to use that plan, as appropriate, to shape the development of the project from the beginning of the grant period. The Secretary encourages the applicant to design the plan so that it includes (a) benchmarks to monitor progress toward specific project objectives and (b) outcome measures to assess the impact on teaching and learning or other important outcomes for project participants. In its plan, we encourage the applicant to identify the individual and/or organization that will serve as the evaluator and to describe the qualifications of the evaluator. We also encourage the applicant to describe, in its application, the evaluation design, indicating: (1) The types of data that will be collected; (2) when various types of data will be collected; (3) the methods that will be used; (4) the instruments that will be developed and when; (5) how the data will be analyzed; (6) when reports of results and outcomes will be available; and (7) how the applicant will use the information collected through the evaluation to monitor progress of the funded project and to provide accountability information both about success at the initial site and about effective strategies for replication in other settings. Applicants are encouraged to devote an appropriate level of resources to project evaluation.

3. Review and Selection Process: We remind potential applicants that in reviewing applications in any discretionary grant competition, the Secretary may consider, under 34 CFR 75.217(d)(3), the past performance of the applicant in carrying out a previous award, such as the applicant's use of funds, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

4. Special Conditions: Under 34 CFR 74.14 and 80.12, the Secretary may impose special conditions on a grant if the applicant or grantee is not financially stable; has a history of unsatisfactory performance; has a financial or other management system that does not meet the standards in 34 CFR parts 74 or 80, as applicable; has not fulfilled the conditions of a prior grant; or is otherwise not responsible.

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to http://www.ed.gov/fund/grant/apply/appforms/appforms.html.

4. Performance Measures: The goal of the CSP is to support the creation and development of a large number of high-quality charter schools that are free from State or local rules that inhibit flexible operation, are held accountable for enabling students to reach challenging State performance standards, and are open to all students. The Secretary has set two performance indicators to measure progress toward this goal: (1) The number of charter schools in operation around the Nation, and (2) the percentage of fourth- and eighth-grade charter school students who are achieving at or above the proficient level on State examinations in mathematics and reading/language arts. Additionally, the Secretary has established the following measure to examine the efficiency of the CSP: Federal cost per student in implementing a successful school (defined as a school in operation for three or more years).

All grantees will be expected to submit an annual performance report documenting their contribution in assisting the Department in meeting these performance measures.

5. Continuation Awards: In making a continuation award, the Secretary may consider, under 34 CFR 75.253, the extent to which a grantee has made “substantial progress toward meeting the objectives in its approved application.” This consideration includes the review of a grantee's progress in meeting the targets and projected outcomes in its approved application, and whether the grantee has expended funds in a manner that is consistent with its approved application and budget. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

6. Project Director's Meeting: Applicants approved for funding under this competition must attend a two-day meeting for project directors at a location to be determined in the continental United States during each year of the project. Applicants may include the cost of attending this meeting in their proposed budgets.

VII. Agency Contacts

For Further Information Contact: Leslie Hankerson, U.S. Department of Education, 400 Maryland Avenue, SW., room 4W249, Washington, DC 20202-5970. Telephone: (202) 205-8524 or by e-mail: Leslie.Hankerson@ed.gov.

If you use a TDD, call the FRS, toll free, at 1-800-877-8339.

VIII. Other Information

Accessible Format: Individuals with disabilities can obtain this document and a copy of the application package in an accessible format (e.g., braille, large print, audiotape, or computer diskette) on request to the program contact person listed under FOR FURTHER INFORMATION CONTACT of section VII in this notice.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: January 19, 2011.
James H. Shelton, III,
Assistant Deputy Secretary for Innovation and Improvement.

[FR Doc. 2011-1518 Filed 1-24-11; 8:45 am]

BILLING CODE 4000-01-P